DEPARTMENT OF TRANSPORTATION

Federal Motor Carrier Safety Administration

[Docket No. FMCSA-2012-0012]

Agency Information Collection Activities; New Information Collection Request: Commercial Driver Individual Differences Study

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. The FMCSA requests approval of a new ICR that is associated with a study that will be conducted by a research contractor to investigate the differences among the characteristics of individual commercial drivers. This information collection will aid FMCSA in developing future safety initiatives by examining a wide array of driver and situational factors to determine if they are associated with increased or decreased crash and incident involvement. On October 3, 2011, FMCSA published a Federal Register notice allowing for a 60-day comment period on the ICR. Five comments were received.

DATES: Please send your comments by April 13, 2012. OMB must receive your comments by this date in order to act quickly on the ICR.

ADDRESSES: All comments should reference Federal Docket Management System (FDMS) Docket Number FMCSA-2012-0012. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Theresa Hallquist, Federal Motor Carrier Safety Administration, Office of Analysis, Research and Technology, Federal Motor Carrier Safety Administration, 6th Floor, West Building, 1200 New Jersey Avenue SE., Washington, DC 20590-0001. Telephone: 202-366-1064; Email Address: theresa.hallquist@dot.gov. Office hours are from 8 a.m. to 4 p.m., Monday through Friday, except Federal holidays.

SUPPLEMENTARY INFORMATION:

Title: Commercial Driver Individual Differences Study.

OMB Control Number: 2126-XXXX.

Type of Request: New information collection.

Respondents: Commercial motor vehicle (CMV) drivers and fleet managers.

Estimated Number of Respondents: 21,020.

Estimated Time per Response: The estimated average time per responses are as follows: 1 hour, 5 minutes for paper and 1 hour for electronic Form MCSA-5863, “Commercial Motor Vehicle Driver Survey,” submissions; 35 minutes for paper and 30 minutes for electronic Form MCSA-5864, “Follow-Up Survey of Recent Life Experiences,” submissions; 75 minutes for paper and 70 minutes for electronic Driver Survey and Job Descriptive Index from the Follow-Up Survey submission; and 10 minutes for the Form MCSA-5865, “Fleet Managers Survey,” submissions.

Expiration Date: N/A. This is a new information collection request.

Frequency of Response: This information collection will be a single, nonrecurring event for 16,000 CMV driver participants and 20 fleet managers. For at least 5,000 CMV driver participants, the information collection will occur twice.

Estimated Total Annual Burden: 9,536 hours. 8,822 hours for CMV driver participants: [16,800 CMV drivers completing paper Driver Survey × 65 minutes + 4,200 CMV drivers completing electronic Driver Survey × 1 hour + 4,000 drivers completing paper Follow-Up Survey × 35 minutes per driver/60 minutes + 1,000 drivers completing electronic Follow-Up Survey × 30 minutes per driver/60 minutes + 800 CMV drivers completing paper Driver Survey and Job Descriptive Index × 75 minutes per driver/60 minutes + 200 CMV drivers completing paper Driver Survey and Job Descriptive Inde× × 70 minutes per driver/60 minutes = 26,466 hours/3 years = 8,822 hours] + 714 hours for Carrier Operations: [20 participating carriers × 2 hours to learn about and agree to participation + 40 carrier managers completing IRB training × 2 hours + 20 Managers recruiting and handling data collection of 20,000 respondents × 83 hours + 20 Managers completing Fleet Manager Survey × 10 minutes + Carrier managers delivering monthly crash reports to VTTI (20 carriers × 36 months) × 30 minutes/60 minutes = 2,143/3 years = 714 hours]. 8,822 hours for CMV driver participants + 714 hours for Carriers Operations = 9,536 hours.

Background: The purpose of this study is to identify, verify, quantify, and prioritize commercial driver risk factors. Primarily, these are personal factors such as demographic characteristics, medical conditions, personality traits, and performance capabilities. Risk factors may also include work environmental conditions, such as carrier operations type. The study will identify risk factors by linking the characteristics of individual drivers with their driving records, especially the presence or absence of DOT reportable crashes.

Public Comments Invited: You are asked to comment on any aspect of this information collection, including: (1) Whether the proposed collection is necessary for the FMCSA to perform its functions; (2) the accuracy of the estimated burden; (3) ways for FMCSA to enhance the quality, usefulness, and clarity of the collected information; and (4) ways that the burden could be minimized without reducing the quality of the collected information.

Issued on: March 5, 2012.
Kelly Leone,
Associate Administrator for Office of Research and Information Technology.

[FR Doc. 2012-6059 Filed 3-13-12; 8:45 am]

BILLING CODE 4910-EX-P